DEPARTMENT OF ENERGY

Federal Energy Regulatory Commission

[Docket Nos. ER02-300-001 and ER02-301-001]

Armstrong Energy Limited Partnership, LLLP and Troy Energy, LLC; Notice of Filing

December 27, 2001.

Take notice on December 14, 2001, Pleasants Energy, LLC (Pleasants Energy), Armstrong Energy limited Partnership, LLLP (Armstrong Energy) and Troy Energy LLC (Troy Energy) tendered for filing with the Federal Energy Regulatory Commission (Commission) a letter requesting the Commission to issue an order on the merits of their Purchase Power Agreements with Virginia Electric and Power Company.

Armstrong Energy and Troy Energy request that the Commission take action by February 18, 2002 since the units will commence test energy operations shortly after that date.

Copies of the filing were served upon the Ohio Public Utilities Commission, Pennsylvania Public utility Commission, Public Service Commission of West Virginia and Virginia State Corporation Commission.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before the comment date. Protests will be considered by the Commission to determine the appropriate action to be taken, but will not serve to make protestants parties to the proceedings. Any person wishing to become a party must file a motion to intervene. Copies of this filing are on file with the Commission and are available for public inspection. This filing may also be viewed on the Commission's web site at http://www.ferc.gov using the “RIMS” link, select “Docket#” and follow the instructions (call 202-208-2222 for assistance). Comments, protests and interventions may be filed electronically via the internet in lieu of paper. See, 18 CFR 385.2001(a)(1)(iii) and the instructions on the Commission's web site under the “e-filing” link.

Comment Date: January 4, 2002.

Linwood A. Watson, Jr.,
Acting Secretary.

[FR Doc. 02-70 Filed 1-2-02; 8:45 am]

BILLING CODE 6717-01-P